DEPARTMENT OF COMMERCE

International Trade Administration

[A-357-810]

Oil Country Tubular Goods from Argentina: Rescission of Antidumping Duty Administrative Review

AGENCY: Import Administration, International Trade Administration, Department of Commerce.

ACTION: Notice of Rescission of Antidumping Duty Administrative Review.

SUMMARY: On October 1, 1999, the Department of Commerce (the Department) published in the Federal Register a notice announcing the initiation of an administrative review of the antidumping duty order on oil country tubular goods (OCTG) from Argentina (see Notice of Initiation, 64 FR 53318). The review covers the period August 1, 1998 through July 31, 1999, the company, Siderca, S.A.I.C. and its affiliated parties. We are rescinding this review because there were no consumption entries during the POR or OCTG from Argentina produced or exported by Siderca.

EFFECTIVE DATE: February 23, 2000.

FOR FURTHER INFORMATION CONTACT: Maureen McPhillips or Linda Ludwig, AD/CVD Enforcement Group III—Office 8, Import Administration, International Trade Administration, U.S. Department of Commerce, 14th Street and Constitution Avenue, NW, Washington, DC 20230; telephone (202) 482-0193 or (202) 482-3833, respectively.

Applicable Statute

Unless otherwise indicated, all citations to the Tariff Act of 1930, as amended (the Act) are references to the provisions effective January 1, 1995, the effective date of the amendments made to the Act by the Uruguay Round Agreements Act. In addition, unless otherwise indicated, all citations to the Department of Commerce (the Department) regulations are to the regulations at 19 CFR Part 351 (April 1999).

Scope of the Review

Oil country tubular goods are hollow steel products of circular cross-section, including oil well casing, tubing, and drill pipe, of iron (other than cast iron) or steel (both carbon and alloy), whether seamless or welded, whether or not conforming to American Petroleum Institute (API) or non-API specifications, whether finished or unfinished (including green tubes and limited-service OCTG products). This scope does not cover casing, tubing, or drill pipe containing 10.5 percent or more of chromium. The OCTG subject to this review are currently classified in the following Harmonized Tariff Schedule of the United States (HTSUS) subheadings: 7304.20.20, 7304.20.40, 7304.20.50, 7304.20.60, 7304.20.80, 7304.39.00, 7304.51.50, 7304.20.70, 7304.59.60, 7304.59.80, 7304.90.70, 7305.20.40, 7305.20.60, 7305.20.80, 7305.31.40, 7305.31.60, 7305.39.10, 7305.39.50, 7305.90.10, 7305.90.50, 7306.20.20, 7306.20.30, 7306.20.40, 7306.20.60, 7306.20.80, 7306.30.50, 7306.50.50, 7306.60.70, 7306.90.10. The HTSUS subheadings are provided for convenience and Customs purposes. The written description remains dispositive.

Background

On August 31, 1999, the petitioner in this case, North Star Steel Ohio (North Star) requested an administrative review of OCTG produced or exported by Siderca, an Argentine producer and exporter of OCTG, or any other affiliated party. The antidumping duty order was published in the Federal Register on August 11, 1995 (60 FR 41055). On October 4, 1999, the Department issued a questionnaire to Siderca (see Letter from International Trade Administration to Siderca). On November 1, 1999, counsel for the petitioner, also requested that the Department conduct a duty absorption review to determine whether Siderca S.A.I.C. has absorbed antidumping duties in accordance with 19 CFR 351.213(j)(1)-(2) (1999).

SUPPLEMENTARY INFORMATION: In its October 7, 1999 response to petitioner's request for review and the subsequent issuance of the Department's questionnaire, Siderca certified that “it did not, directly or indirectly, enter for consumption, or sell, export, or ship for entry for consumption in the United States subject merchandise during the POR.” In addition, Siderca's U.S. affiliate, Siderca Corporation (which handles Siderca's merchandise in the United States) certified that it “did not sell, enter, or otherwise import for consumption into the United States, directly or indirectly, any of the subject merchandise during the POR.” See Letter from Counsel for Siderca S.A.I.C. to the Secretary, October 7, 1999, p. 2.

On November 8, 1999, the Department requested information from Customs on those entries identified as consumption entries from Argentina in the Census proprietary entry-specific database. In its response of January 12, 2000, Customs provided documentation showing that there was only one entry subject to the antidumping case on OCTG from Argentina. The remaining entries covered shipments of mechanical tubing and boiler tubing, merchandise not subject to the antidumping duty order on oil country tubular goods. The one entry for consumption, nonseamless (welded) oil tubing classified under HTSUS 7306.20.60.50, was not produced by Siderca.

Based on the foregoing, there is no evidence that Siderca made any U.S. consumption entries of Argentine OCTG during the POR. The Department, therefore, determines that no subject merchandise produced or exported by Siderca was entered into the United States for consumption during the POR and, thus, there are no entries subject to review.

Because Siderca was the only firm for which a review was requested and it had no U.S. entries for consumption of covered merchandise during the POR, there is no basis for continuing this administrative review. We, therefore, are rescinding this review in accordance with § 351.213(d)(3) of the Department's regulations. The cash deposit rate for all firms will continue to be the rate established in the most recently completed segment of this proceeding (i.e., 1.36 percent).

This administrative review and notice are in accordance with section 751(a)(1) of the Act (19 U.S.C. 1675(a)(1)) and 19 CFR 351.213(d)(4).

Dated: February 15, 2000.
Joseph A. Spetrini,
Deputy Assistant Secretary for AD/CVD Enforcement Group III.

[FR Doc. 00-4249 Filed 2-22-00; 8:45 am]

BILLING CODE 3510-DS-M